DEPARTMENT OF JUSTICE

Antitrust Division

Notice Pursuant to the National Cooperative Research and Production Act of 1993 Power Tool Institute Joint Venture Project

Notice is hereby given that, on October 23, 2003, pursuant to section 6(a) of the National Cooperative Research and Production Act of 1993, 15 U.S.C. 4301 et seq. (“the Act”), the Power Tool Institute Joint Venture Project has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are The Black & Decker Corp., Towson, MD; Hitachi Koki, U.S.A., Ltd., Norcross, GA, a subsidiary of Hitachi Koki Company Ltd., Tokyo, Japan; Pentair Tools Group, Jackson, TN, a subsidiary of Pentair Corporation, Golden Valley, MN; Robert Bosch Tool Corporation, Mount Prospect, IL, an affiliated entity of Robert Bosch GMBH, Gerlingen, Germany and Scintilla AG, Solothum, Switzerland; and Ryobi Technologies, Inc., Anderson, SC and One World Technologies, Inc., Anderson, SC, both subsidiaries of Techtronics Inc., Tsuen Wan, Hong Kong, China. The nature and objectives of the venture are the research and development of technology for power saw blade contact injury avoidance, including skin sensing systems, blade braking systems, and/or blade guarding systems. The participants intend to share confidential information and intellectual property rights in order to achieve the goals of the joint venture. The participants intend to share intellectual property that is contributed, and any intellectual property or technology that is developed through the joint venture, among themselves and the Power Tool Institute. Any royalties generated by the licensing of any technology or intellectual property created through the joint venture will be shared among the joint venture participants and the Power Tool Institute pursuant to the terms of the joint venture agreement and the accompanying confidentiality agreements. The technology or intellectual property created through the joint venture will be available to the public for a licensing fee, which will be non-discriminatory and determined in accordance with the costs to develop the intellectual property to be licensed.

Dorothy B. Fountain,
Deputy Director of Operations, Antitrust Division.

[FR Doc. 03-29834 Filed 11-28-03; 8:45 am]

BILLING CODE 4410-11-M